DEPARTMENT OF HOUSING AND URBAN DEVELOPMENT

24 CFR Parts 91, 92, 570, and 982

[Docket No. FR-6144-F-05]

RIN 2506-AC50

HOME Investment Partnerships Program: Program Updates and Streamlining—Delay of Effective Date, Withdrawal, and Correction

AGENCY: Office of the Secretary, U.S. Department of Housing and Urban Development (HUD).

ACTION: Final rule; delay of effective date, withdrawal, and correction.

SUMMARY: On January 6, 2025, HUD published the HOME Investment Partnerships Program: Program Updates and Streamlining final rule (HOME Final Rule) in the Federal Register, which was scheduled to take effect on February 5, 2025. On February 3, 2025, HUD delayed the effective date of the HOME Final Rule until April 20, 2025, consistent with the President's January 20, 2025, memorandum titled “Regulatory Freeze Pending Review.” This publication announces that HUD is further delaying the effective or compliance dates for certain provisions of the HOME Final Rule. The provisions of the HOME Final Rule that are not further delayed by this publication are effective as of April 20, 2025.

DATES: In this rule, amendatory instruction 2 is effective April 20, 2025, and amendatory instruction 3 is effective October 30, 2025. As of April 17, 2025, the effective date for amendatory instruction 27 (revising 24 CFR 92.253) in the HOME Final Rule published at 90 FR 746 (January 6, 2025), which was initially delayed at 90 FR 8780 (February 3, 2025), is further delayed until October 30, 2025. As of April 17, 2025, amendatory instruction 24 (amending 24 CFR 92.250) in the HOME Final Rule published at 90 FR 746 (January 6, 2025) is withdrawn. The corrections in this final rule to 24 CFR 92.3 are effective April 20, 2025.

FOR FURTHER INFORMATION CONTACT: Virginia Sardone, Director, Office of Affordable Housing Programs, Office of Community Planning and Development, U.S. Department of Housing and Urban Development, 451 7th Street SW, Room 7160, Washington, DC 20410; telephone number (202) 708-2684 (this is not a toll-free number). HUD welcomes and is prepared to receive calls from individuals who are deaf or hard of hearing, as well as individuals with speech or communication disabilities. To learn more about how to make an accessible telephone call, visit https://www.fcc.gov/consumers/guides/telecommunications-relay-service-trs.

SUPPLEMENTARY INFORMATION:

I. Background

On January 6, 2025, HUD published the HOME Final Rule in the Federal Register.¹ The HOME Final Rule revises the HOME Investment Partnerships Program (HOME program) regulations to update, simplify, or streamline requirements, better align the program with other Federal housing programs, and implement recent amendments to the HOME program statute.² The HOME Final Rule also includes minor revisions to the regulations for the Community Development Block Grant and Section 8 Housing Choice Voucher Programs consistent with the changes to the HOME program. The HOME Final Rule provides for the rule to take effect on February 5, 2025.

¹ 90 FR 746.

² The HOME program is authorized by title II of the Cranston-Gonzalez National Affordable Housing Act (42 U.S.C. 12721 et seq.) and has been in operation since 1992.

On January 20, 2025, the President issued a memorandum titled “Regulatory Freeze Pending Review” (the memorandum) to executive departments and agencies.³ The memorandum, among other things, asks executive departments and agencies to consider postponing for 60 days from the date of the memorandum the effective date of rules that were published in the Federal Register but had not yet taken effect. This postponement allowed executive departments and agencies time to review any questions of fact, law, and policy that the rules may raise.

³ Available at 90 FR 8249 (Jan. 28, 2025).

Consistent with the memorandum, on February 3, 2025, HUD delayed the effective date of the HOME Final Rule from February 5, 2025, until April 20, 2025.⁴ HUD's delay of the effective date of the HOME Final Rule until April 20, 2025, provided HUD with time to review the HOME Final Rule for any questions of fact, law, and policy that arise in the HOME Final Rule, as directed by the memorandum.

⁴ See HOME Investment Partnerships Program: Program Updates and Streamlining-Delay of Effective Date at 90 FR 8780.

II. Delay of Effective Date for Certain Provisions of the HOME Final Rule

Consistent with the memorandum, HUD reviewed the HOME Final Rule for any questions of fact, law, and policy that arise in the HOME Final Rule. Pursuant to HUD's review of the HOME Final Rule and consistent with the memorandum, HUD has determined to further delay the effective date for certain provisions of the HOME Final Rule to allow HUD to seek further public comment on the provisions of the HOME Final Rule detailed in this publication. In addition, this publication makes changes to the HOME Final Rule's revisions to 24 CFR 92.3 to align with this delay of effective date for the indicated provisions of the HOME Final Rule. HUD will issue a separate Federal Register publication inviting public comment on the provisions of the HOME Final Rule detailed in this publication. The provisions of the HOME Final Rule that are not further delayed by this publication are effective as of April 20, 2025.

The Certain Provisions of the HOME Final Rule With an Effective Date Further Delayed by This Publication

The effective date for the following HOME Final Rule provisions is delayed:

1. 24 CFR 92.250—Maximum Per-Unit Subsidy Amount, Underwriting, and Subsidy Layering—Paragraph (c)

The effective date for the addition of paragraph (c) to 24 CFR 92.250 is delayed until the date described in the DATES section of this publication. (Because part of an amendatory instruction cannot be delayed, HUD is withdrawing amendatory instruction 24 from the HOME Final Rule and setting out two separate instructions in this rule to: (1) revise paragraphs (a) and (b)(3)(i) and amend paragraph (b)(4) of 24 CFR 92.250, effective April 20, 2025; and (2) add paragraph (c) to 24 CFR 92.250, effective October 30, 2025.)

2. 24 CFR 92.253—Tenant Protections and Selection

The effective date for the HOME Final Rule's revisions to 24 CFR 92.253 is delayed until the date described in the DATES section of this publication.

Notwithstanding this delay of the effective date for the HOME Final Rule's revisions to 24 CFR 92.253, HUD reminds owners that, pursuant to 42 U.S.C. 12755(b), they may terminate the tenancy or refuse to renew the tenancy of a person in HOME-assisted rental housing based on the grounds of a direct threat to the safety of the tenants or employees of the housing or an imminent and serious threat to the property, and owners are not required to provide 30 days' notice prior to the termination or refusal to renew where the action is in accordance with the requirements of State and local law and the requirements of 24 CFR part 92.

Revisions to 24 CFR 92.3 To Align With the Delay of Effective Date of Certain Provisions of the HOME Final Rule

To account for the delay to the effective date from February 5, 2025, to April 20, 2025, HUD is making certain technical changes to update the compliance and effective dates listed in 24 CFR 92.3 of the HOME Final Rule. The changes to 24 CFR 92.3 of the HOME Final Rule are to clarify and revise the applicable effective and compliance dates described in that section. The compliance dates detailed in various paragraphs of 24 CFR 92.3 of the HOME Final Rule are being revised to April 20, 2026, to ensure participating jurisdictions have a 1-year compliance period, as originally described in the HOME Final Rule.

Cross-References and Other Language Affected by the Delay of Certain Provisions of the HOME Final Rule

HUD recognizes that delaying the effective date of the certain provisions to the HOME Final Rule detailed in this publication will create inconsistencies in certain cross-references and other language in sections throughout 24 CFR parts 91 and 92. To the extent that such cross-references refer to tenant selection preferences in 24 CFR 92.253(e) or to the tenant protections contained in the tenancy addenda referenced in 24 CFR 92.253, these references shall be read to refer to the tenant selection preferences in 24 CFR 92.253(d) and to the lease requirements and tenant protections in 24 CFR 92.253 that are currently effective, respectively. HUD intends to correct these cross-references, where necessary, in a subsequent rulemaking.

III. Application of the Personal Responsibility and Work Opportunity Reconciliation Act of 1996 to the HOME Program

HUD reminds HOME program recipients that grants must be administered in accordance with all applicable immigration restrictions and requirements, including the eligibility and verification requirements that apply under title IV of the Personal Responsibility and Work Opportunity Reconciliation Act of 1996, as amended (8 U.S.C. 1601-1646) (PRWORA) and any applicable requirements that HUD, the Attorney General, or the U.S. Citizenship and Immigrations Services may establish from time to time to comply with PRWORA.

List of Subjects in 24 CFR Part 92

Administrative practice and procedure, Low and moderate income housing, Manufactured homes, Rent subsidies, Reporting and recordkeeping requirements.

Correction

In FR Doc. 2024-29824, published January 6, 2025, at 90 FR 746, the following corrections are made:

§ 92.3 [Corrected]

1. Starting on page 865, in the second column, in amendatory instruction 6 for § 92.3:

a. Remove the date “February 4, 2025”, wherever it appears, and add, in its place, the date “April 19, 2025”;

b. Remove the date “February 5, 2025”, wherever it appears, and add, in its place, the date “April 20, 2025”; and

c. Remove the date “February 5, 2026”, wherever it appears, and add, in its place, the date “April 20, 2026”.

For the reasons set out in the preamble, HUD amends 24 CFR part 92 as follows:

PART 92—HOME INVESTMENT PARTNERSHIPS PROGRAM

1. The authority citation for part 92 continues to read as follows:

Authority: 42 U.S.C. 3535(d) and 12701-12839, 12 U.S.C. 1701x.

2. Effective April 20, 2025, amend § 92.250 by:

a. Revising paragraphs (a) and (b)(3)(i); and

b. Removing the words “downpayment assistance” and in their place adding the words “homeownership assistance” in paragraph (b)(4).

The revisions read as follows:

§ 92.250 Maximum per-unit subsidy amount, underwriting, and subsidy layering.

(a) Maximum per-unit subsidy amount. The total amount of HOME funds that a participating jurisdiction may invest on a per-unit basis in affordable housing may not exceed the per-unit dollar limits established by HUD in accordance with section 212(e) of the Act. HUD will publish the per-unit dollar limits for the area in which the housing is located annually. HUD will publish its methodology for determining maximum per-unit dollar limits through a publication in the Federal Register with the opportunity for comment.

(b) * * *

(3) * * *

(i) An underwriting analysis of the homeowner's ability to repay the HOME-funded rehabilitation loan is required only if the loan is an amortizing loan; and

* * * * *

3. Effective October 30, 2025, further amend § 92.250 by adding paragraph (c) to read as follows:

§ 92.250 Maximum per-unit subsidy amount, underwriting, and subsidy layering.

* * * * *

(c) Green building standards. A participating jurisdiction may exceed the per-unit dollar limits described in paragraph (a) of this section by up to 10 percent if the project meets one of the green building standards identified by HUD and published in the Federal Register.

Scott Turner,
Secretary.

[FR Doc. 2025-06492 Filed 4-16-25; 8:45 am]

BILLING CODE 4210-67-P